DEPARTMENT OF AGRICULTURE

Agricultural Marketing Service

[Docket Number FV-04-303]

United States Standards for Grades of Field Grown Leaf Lettuce

AGENCY: Agricultural Marketing Service, USDA.

ACTION: Notice.

SUMMARY: The Agricultural Marketing Service (AMS) of the Department of Agriculture (USDA) is establishing voluntary United States Standards for Grades of Field Grown Leaf Lettuce. The standards will provide industry with a common language and uniform basis for trading, thus promoting the orderly and efficient marketing of field grown leaf lettuce.

DATES: Effective Date: March 23, 2006.

FOR FURTHER INFORMATION CONTACT: Cheri L. Emery, Standardization Section, Fresh Products Branch, Fruit and Vegetable Programs, Agricultural Marketing Service, U.S. Department of Agriculture, 1400 Independence Ave., SW., Room 1661, South Building, Stop 0240, Washington, DC 20250-0240, (202) 720-2185, fax (202) 720-8871, or e-mail Cheri.Emery@usda.gov.

The United States Standards for Grades of Field Grown Leaf Lettuce is available either from the above address or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS established voluntary United States Standards for Grades of Field Grown Leaf Lettuce using the procedures that appear in part 36, Title 7 of the Code of Federal Regulations (7 CFR part 36).

Background

AMS previously published a notice in the Federal Register (68 FR 68858), on December 10, 2003, soliciting comments on the possible development of United States Standards for Grades of Field Grown Leaf Lettuce. Based on the comments received and information gathered, AMS developed proposed grade standards for field grown leaf lettuce. The proposed standards contained the following grades, as well as tolerances for each grade: U.S. Fancy, U.S. No. 1 and U.S. No. 2. In addition, there were “Tolerances,” “Application of Tolerances,” and “Size” sections. AMS is defining “Injury,” “Damage,” and “Serious Damage,” along with specific basic requirements and definitions for defects. A notice was then published in the Federal Register (70 FR 15065), on March 24, 2005, requesting comments on the proposed United States Standards for Grades of Field Grown Leaf Lettuce. In response to the notice, a comment was received from a national trade association representing produce receivers, asking for an extension of the comment period. Following a review of the request, AMS published a notice in the Federal Register (70 FR 14386), on July 21, 2005, extending the period for comment. The comments are available by accessing the AMS, Fresh Products Branch Web site at: http://www.ams.usda.gov/fv/fpbdocketlist.htm.

After the extension of the comment period, two comments were received. One comment from a grower's association was in favor of the standards as proposed. One comment from a produce receiver's association also was in favor of the establishment of standards. However, they commented that tolerances should be less for the grades, not the proposed 12 percent for total defects, 6 percent serious damage, 3 percent decay, but should be the same as the existing United States Standards for Grades of Greenhouse Leaf Lettuce, which is 10 percent for total defects, 5 percent serious damage, and 1 percent decay. AMS does not agree with this assessment, since greenhouse leaf lettuce is grown in a more protected environment and typically has fewer defects. The association's second suggestion was that the defect Russet Spotting be included in the standards. AMS agrees with this comment, since Russet Spotting does occur on field grown leaf lettuce. Consequently, AMS has added Russet Spotting as a defect, as well as scoring definitions to the standards.

The adoption of the U.S. grade standards will provide the field grown leaf lettuce industry with U.S. grade standards similar to those extensively in use by the fresh produce industry to assist in orderly marketing of other commodities.

The official grade of a lot of field grown leaf lettuce covered by these standards will be determined by the procedures set forth in the Regulations Governing Inspection, Certification, and Standards of Fresh Fruits, Vegetables and Other Products (Sec. 51.1 to 51.61).

The United States Standards for Grades of Field Grown Leaf Lettuce will be effective 30 days after publication of this notice in the Federal Register.

Authority: 7 U.S.C. 1621-1627.

Dated: February 13, 2006.
Lloyd C. Day,
Administrator, Agricultural Marketing Service.

[FR Doc. E6-2386 Filed 2-17-06; 8:45 am]

BILLING CODE 3410-02-P